DEPARTMENT OF THE INTERIOR

Office of the Secretary

[4820000549]

Notice of Call for Nominations for the Exxon Valdez Oil Spill Public Advisory Committee

AGENCY: Office of the Secretary, Interior.

ACTION: Call for nominations notice.

SUMMARY: The Department of the Interior is soliciting nominations for the Exxon Valdez Oil Spill Public Advisory Committee (Committee). This Committee advises the Exxon Valdez Oil Spill Trustee Council on decisions related to the planning, evaluation, allocation of funds, and conduct of injury assessment and restoration activities related to the T/V Exxon Valdez oil spill of March 1989.

DATES: All nominations must be received by April 14, 2025.

ADDRESSES: Send nomination packages by hard copy or via email to Shiway Wang, Executive Director, Exxon Valdez Oil Spill Trustee Council, 4230 University Drive, Suite 220, Anchorage, Alaska, 99508-4650, or at shiway.wang@alaska.gov. Also please copy Joy Maglaqui, Executive Assistant, on any email correspondence at joy.maglaqui@alaska.gov.

FOR FURTHER INFORMATION CONTACT: Grace Cochon, Department of the Interior, Office of Environmental Policy and Compliance, telephone number: (907) 227-3781; email: grace_cochon@ios.doi.gov.

SUPPLEMENTARY INFORMATION: The Committee was created pursuant to paragraph V.A.4 of the Memorandum of Agreement and Consent Decree entered into by the United States of America and the State of Alaska on August 27, 1991, and approved by the United States District Court for the District of Alaska in settlement of United States of America v. State of Alaska, Civil Action No. A91-081 CV. The Committee advises the Trustee Council on matters relating to decisions on injury assessment, restoration activities, or other use of natural resource damage recoveries obtained by the government. The Trustee Council consists of representatives of the U.S. Department of the Interior, U.S. Department of Agriculture, National Oceanic and Atmospheric Administration, Alaska Department of Fish and Game, Alaska Department of Environmental Conservation, and Alaska Department of Law.

The Committee consists of 10 members to reflect balanced representation from each of the following principal interests: aquaculture/mariculture, commercial fishing, commercial tourism, conservation/environmental, Native landownership, recreation, subsistence use, science/technology, sport hunting/fishing, and public-at-large.

We are soliciting nominations for four positions that represent commercial fishing, subsistence use, recreation, and public-at-large interests. The Committee members will be selected and appointed by the Secretary of the Interior to serve a four-year term.

Nomination Process: Nominations for membership may be submitted by any source. Nominations should include a résumé providing an adequate description of the nominee's qualifications, including information that would enable the Department of the Interior to evaluate the nominee's ability to meet Committee membership requirements and to contact a potential member.

Authority: 5 U.S.C. ch. 10.

Lisa M. Fox,
Regional Environmental Officer, Office of Environmental Policy and Compliance.

[FR Doc. 2025-00557 Filed 1-13-25; 8:45 am]

BILLING CODE 4334-21-P